DEPARTMENT OF TRANSPORTATION

Federal Motor Carrier Safety Administration

[Docket No. FMCSA-2013-0027]

Qualification of Drivers; Exemption Applications; Vision

AGENCY: Federal Motor Carrier Safety Administration (FMCSA), DOT.

ACTION: Notice of applications for exemptions; request for comments.

SUMMARY: FMCSA announces receipt of applications from 32 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before May 28, 2013.

ADDRESSES: You may submit comments bearing the Federal Docket Management System (FDMS) Docket No. FMCSA-2013-0027 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 32 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Deneris G. Allen

Mr. Allen, age 48, has had refractive amblyopia in his left eye since childhood. The visual acuity in his right eye is 20/20, and in his left eye, 20/50. Following an examination in 2012, his optometrist noted, “Upon further examination, it has been determined that Mr. Allen's vision is adequate to safely operate commercial vehicles without prescription glasses.” Mr. Allen reported that he has driven tractor-trailer combinations for 11 years, accumulating 605,000 miles. He holds a Class A Commercial Driver's License (CDL) from Louisiana. His driving record for the last 3 years shows no crashes and no convictions for moving violations in a CMV.

Terry L. Baker

Mr. Baker, 60, has had amblyopia in his left eye since childhood. The visual acuity in his right eye is 20/25, and in his left eye, 20/100. Following an examination in 2012, his optometrist noted, “Based upon my findings and medical expertise, I A. Badillo hereby certify Terry Baker to be visually able to safely operate a commercial motor vehicle.” Mr. Baker reported that he has driven straight trucks for 4 years, accumulating 300,000 miles, and tractor-trailer combinations for 2 months, accumulating 1,500 miles. He holds a Class DMA CDL from Kentucky. His driving record for the last 3 years shows no crashes and no convictions for moving violations in a CMV.

Rocky B. Bentz

Mr. Bentz, 31, has had amblyopia in his left eye since birth. The visual acuity in his right eye is 20/20, and in his left eye, 20/400. Following an examination in 2012, his optometrist noted, “It is my medical opinion that despite not being 20/40 or better in his left eye, Mr. Bentz is still perfectly capable of operating his commercial vehicle safety, which he has done for a number of years.” Mr. Bentz reported that he has driven straight trucks for 6 years, accumulating 66,000 miles. He holds an operator's license from Wisconsin. His driving record for the last 3 years shows no crashes and no convictions for moving violations in a CMV.

Ryan L. Brown

Mr. Brown, 39, has had Coat's disease in his left eye since childhood. The visual acuity in his right eye is 20/20, and in his left eye, 20/400. Following an examination in 2012, his ophthalmologist noted, “We have examined Ryan Brown since 1984 and he was most recently examined on October 23, 2012, and I feel that he has sufficient vision to perform the driving tasks required to operate a commercial vehicle.” Mr. Brown reported that he has driven straight trucks for 18 years, accumulating 112,320 miles. He holds an operator's license from Illinois. His driving record for the last 3 years shows no crashes and no convictions for moving violations in a CMV.

Juan R. Cano

Mr. Cano, 37, has had esotropia in his right eye since birth. The best corrected visual acuity in his right eye is hand motion, and in his left eye, 20/20. Following an examination in 2012, his optometrist noted, “Mr. Cano presents with esotropia since birth [sic]. Visual acuity is stable and has [sic] sufficient vision to perform driving tasks [sic] to operate a commercial vehicle.” Mr. Cano reported that he has driven straight trucks for 7 years, accumulating 700,000 miles, and tractor-trailer combinations for 7 years, accumulating 700,000 miles. He holds a Class A CDL from Texas. His driving record for the last 3 years shows no crashes and no convictions for moving violations in a CMV.

John Cole

Mr. Cole, 56, has had idiopathic amblyopia in his right eye since birth. The best corrected visual acuity in his right eye is 20/200, and in his left eye, 20/20. Following an examination in 2013, his optometrist noted, “It is my medical opinion that John Cole does have sufficient vision to perform the driving tasks required to operate a commercial vehicle.” Mr. Cole reported that he has driven straight trucks for 25 years, accumulating 1.2 million miles, and tractor-trailer combinations for 20 years, accumulating 80,000 miles. He holds a Class A CDL from Illinois. His driving record for the last 3 years shows no crashes and no convictions for moving violations in a CMV.

Kenneth Crider

Mr. Crider, 47, has had amblyopia in his left eye since childhood. The visual acuity in his right eye is 20/15, and in his left eye, 20/100. Following an examination in 2012, his ophthalmologist noted, “In my medical opinion, he has sufficient vision to perform the driving tasks required to operate a commercial motor vehicle.” Mr. Crider reported that he has driven straight trucks for 12 years, accumulating 428,400 miles. He holds an operator's license from Kentucky. His driving record for the last 3 years shows one crash, for which he was not cited, and no convictions for moving violations in a CMV.

Jon R. Gunschel

Mr. Gunschel, 58, has had complete loss of vision in his left eye since 1979. The visual acuity in his right eye is 20/20, and in his left eye, no light perception. Following an examination in 2013, his ophthalmologist noted, “I consider Mr. Gunschel to have sufficient vision to perform the driving tasks required to operate a commercial vehicle.” Mr. Gunschel reported that he has driven straight trucks for 20 years, accumulating 4,000 miles. He holds an operator's license from Massachusetts. His driving record for the last 3 years shows no crashes and no convictions for moving violations in a CMV.

Dean Hawley

Mr. Hawley, 46, has had complete loss of vision in his left eye due to a traumatic incident in 1989. The best corrected visual acuity in his right eye is 20/20, and in his left eye, no light perception. Following an examination in 2012, his optometrist noted, “It is my professional opinion that Mr. Hawley's vision is sufficient to perform the driving tasks necessary to operate a commercial vehicle.” Mr. Hawley reported that he has driven straight trucks for 29 years, accumulating 580,000 miles, and tractor-trailer combinations for 20 years, accumulating 400,000 miles. He holds a Class A CDL from North Carolina. His driving record for the last 3 years shows no crashes and no convictions for moving violations in a CMV.

Clarence Jones

Mr. Jones, 62, has had amblyopia in his right eye since childhood. The best corrected visual acuity in his right eye is 20/400, and in his left eye, 20/20. Following an examination in 2012, his optometrist noted, “It is my opinion that Mr. Jones has sufficient visual acuity and visual fields to operate a commercial motor vehicle.” Mr. Jones reported that he has driven straight trucks for 40 years, accumulating 2.3 million miles, and tractor-trailer combinations for 22 years, accumulating 429,000 miles. He holds a Class A CDL from Pennsylvania. His driving record for the last 3 years shows no crashes and no convictions for moving violations in a CMV.

Cody A. Keys

Mr. Keys, 51, has had epiretinal membrane in his right eye since 1989. The best corrected visual acuity in his right eye is counting fingers, and in his left eye, 20/20. Following an examination in 2012, his optometrist noted, “The results from the comprehensive eye exam indicate that Mr. Keys has necessary vision for commercial driving.” Mr. Keys reported that he has driven straight trucks for 12 years, accumulating 120,000 miles. He holds an operator's license from Oklahoma. His driving record for the last 3 years shows no crashes and no convictions for moving violations in a CMV.

Eddie M. Kimble

Mr. Kimble, 51, has had vascular blockage in the optic nerve in his left eye since 2003. The best corrected visual acuity in his right eye is 20/20, and in his left eye, 20/80. Following an examination in 2012, his ophthalmologist noted, “Mr. Kimble has poor vision in the left eye caused by a vascular blockage in the optic nerve * * In my opin [sic], he can safely drive a commercial vehicle.” Mr. Kimble reported that he has driven straight trucks for 12 years, accumulating 187,200 miles. He holds an operator's license from North Carolina. His driving record for the last 3 years shows no crashes and no convictions for moving violations in a CMV.

Darrell W. Knorr

Mr. Knorr, 71, has had a prosthetic left eye since 1983. The best corrected visual acuity in his right eye is 20/20, and in his left eye, no light perception. Following an examination in 2012, his optometrist noted, “In my medical opinion, this patient has sufficient vision to perform the driving tasks required to operate a commercial vehicle.” Mr. Knorr reported that he has driven straight trucks for 50 years, accumulating 25,000 miles, and tractor-trailer combinations for 25 years, accumulating 300,000. He holds Class A CDL from Illinois. His driving record for the last 3 years shows no crashes and no convictions for moving violations in a CMV.

Brandon S. Langston

Mr. Langston, 31, has had deprivation amblyopia in his left eye since childhood. The best corrected visual acuity in his right eye is 20/200, and in his left eye, 20/20. Following an examination in 2013, his optometrist noted, “Mr. Langston appears to have the visual ability to operate a commercial vehicle.” Mr. Langston reported that he has driven straight trucks for 8 years, accumulating 32,000 miles, and tractor-trailer combinations for 11 years, accumulating 385,000 miles. He holds a Class A CDL from Wyoming. His driving record for the last 3 years shows no crashes and no convictions for moving violations in a CMV.

Joseph C. Lee

Mr. Lee, 38, has had a ruptured globe in his left eye since 2002. The best corrected visual acuity in his right eye is 20/20, and in his left eye, counting fingers. Following an examination in 2012, his ophthalmologist noted, “His visual deficiency is stable. He is able to recognize the colors of traffic control signal [sic] and perform the driving task required to operate commercial vehicle [sic].” Mr. Lee reported that he has driven straight trucks for 5 years, accumulating 1.1 million miles, and tractor-trailer combinations for 15 years, accumulating 2.1 million miles. He holds a Class A CDL from Florida. His driving record for the last 3 years shows no crashes and one conviction for a moving violation in a CMV; he was following too closely.

Anthony Luciano

Mr. Luciano, 56, has had a cataract in his left eye since childhood. The best corrected visual acuity in his right eye is 20/15, and in his left eye, hand motion. Following an examination in 2012, his ophthalmologist noted, “In my medical opinion Mr. Luciano has sufficient vision to operate a commercial vehicle.” Mr. Luciano reported that he has driven straight trucks for 35 years, accumulating 350,000 miles. He holds a Class B CDL from Connecticut. His driving record for the last 3 years shows no crashes and no convictions for moving violations in a CMV.

Todd Marcino

Mr. Marcino, 44, has central scotoma in his left eye since birth. The best corrected visual acuity in his right eye is 20/20, and in his left eye, counting fingers. Following an examination in 2012, his ophthalmologist noted, “Feel patients congenital defect LE is stable. Feel should be able to operate commercial vehicle given normal vision right eye.” Mr. Marcino reported that he has driven straight trucks for 3 years, accumulating 12,480 miles. He holds a Class A CDL from Ohio. His driving record for the last 3 years shows no crashes and no convictions for moving violations in a CMV.

David McKinney

Mr. McKinney, 48, has had a prosthetic right eye since 1986. The best corrected visual acuity in his right eye is no light perception, and in his left eye, 20/20. Following an examination in 2012, his optometrist noted, “In my opinion, since this has been a life long deficiency, David has made good adaptations and his vision should be sufficient to operate cars and commercial trucks.” Mr. McKinney reported that he has driven straight trucks for 14 years, accumulating 1.4 million miles, and tractor-trailer combinations for 10 years, accumulating 1 million miles. He holds a Class A CDL from Oregon. His driving record for the last 3 years shows no crashes and no convictions for moving violations in a CMV.

Roger Myers

Mr. Myers, 58, has had a prosthetic right eye since childhood. The best corrected visual acuity in his right eye is no light perception, and in his left eye, 20/25. Following an examination in 2013, his optometrist noted, “It is my opinion that Mr. Myers has the required vision to safely operate a commercial vehicle.” Mr. Myers reported that he has driven straight trucks for 10 years, accumulating 100,000 miles, and tractor-trailer combinations for 6 months, accumulating 1,000 miles. He holds a Class B CDL from Pennsylvania. His driving record for the last 3 years shows no crashes and no convictions for moving violations in a CMV.

Frank L. O'Rourke

Mr. O'Rourke, 57, has had a prosthetic left eye since 2009. The best corrected visual acuity in his right eye is 20/25, and in his left eye, no light perception. Following an examination in 2013, his optometrist noted, “I believe Mr. O'Rourke has sufficient vision and visual field to perform the driving tasks required to operate a commercial vehicle.” Mr. O'Rourke reported that he has driven straight trucks for 30 years, accumulating 300,000 miles, and tractor-trailer combinations for 30 years, accumulating 3 million miles. He holds a Class A CDL from New York. His driving record for the last 3 years shows no crashes and no convictions for moving violations in a CMV.

Scott Oeder

Mr. Oeder, 50, has had a retinal scar in his right eye since childhood. The best corrected visual acuity in his right eye is 20/200, and in his left eye, 20/20. Following an examination in 2012, his optometrist noted, “He does have sufficient vision to perform the driving tasks required to operate a commercial vehicle.” Mr. Oeder reported that he has driven straight trucks for 8 years, accumulating 140,000 miles, and tractor-trailer combinations for 10 years, accumulating 500,000 miles. He holds a Class A CDL from Ohio. His driving record for the last 3 years shows no crashes and no convictions for moving violations in a CMV.

James A. Parker

Mr. Parker, 48, has had a macular hole in his left eye since 1993. The best corrected visual acuity in his right eye is 20/20, and in his left eye, 20/200. Following an examination in 2012, his optometrist noted, “It is my opinion that James Parker has sufficient vision to operate a commercial vehicle.” Mr. Parker reported that he has driven straight trucks for 12 years, accumulating 684,000 miles. He holds an operator's license from Pennsylvania. His driving record for the last 3 years shows no crashes and no convictions for moving violations in a CMV.

Curtis L. Pattengale

Mr. Pattengale, 31, has had complete loss of vision in his left eye since 1991. The best corrected visual acuity in his right eye is 20/20, and in his left eye, no light perception. Following an examination in 2012, his optometrist noted, “It is my opinion that Mr. Pattengale has sufficient vision to continue as a CDL driver. He will of course need to continue use of the external rear view mirrors as he has been trained.”

Mr. Pattengale reported that he has driven straight trucks for 7 years, accumulating 54,600 miles. He holds a chauffer's license from Indiana. His driving record for the last 3 years shows no crashes and no convictions for moving violations in a CMV.

Gonzalo Pena

Mr. Pena, 40, has had a prosthetic right eye since childhood. The best corrected visual acuity in his right eye is no light perception, and in his left eye, 20/20. Following an examination in 2012, his optometrist noted, “I am confident that the quality of the left eye is appropriate for commercial truck driving requirements.” Mr. Pena reported that he has driven tractor-trailer combinations for 6 years, accumulating 330,000 miles. He holds a Class A CDL from Florida. His driving record for the last 3 years shows no crashes and no convictions for moving violations in a CMV.

Steven R. Peters

Mr. Peters, 59, has had amblyopia in his left eye since childhood. The best corrected visual acuity in his right eye is 20/20, and in his left eye, 20/100. Following an examination in 2013, his optometrist noted, “In my opinion, Steven has sufficient vision to perform his driving task in a commercial vehicle.” Mr. Peters reported that he has driven straight trucks for 30 years, accumulating 450,000 miles, and tractor-trailer combinations for 30 years, accumulating 450,000 miles. He holds a Class A CDL from Iowa. His driving record for the last 3 years shows no crashes and no convictions for moving violations in a CMV.

Larry F. Reber

Mr. Reber, 72, has had complete loss of vision in his right eye since childhood. The best corrected visual acuity in his right eye is no light perception, and in his left eye, 20/20. Following an examination in 2012, his ophthalmologist noted, “I would certify, in my medical opinion, that he has sufficient vision to perform the driving task of operating a commercial vehicle which he has been doing for the past 20 years.” Mr. Reber reported that he has driven straight trucks for 50 years, accumulating 650,000 miles. He holds a Class A CDL from Ohio. His driving record for the last 3 years shows one crash, for which he was not cited, and no convictions for moving violations in a CMV.

Hoyt V. Smith

Mr. Smith, 33, has had amblyopia in his left eye since childhood. The best corrected visual acuity in his right eye is 20/15, and in his left eye, 20/150. Following an examination in 2013, his optometrist noted, “He has been dealing with the lazy left eye since childhood, and mainly uses his right eye when viewing centrally. In my opinion, I see no valid reason why Mr. Smith cannot continue to use a commercial vehicle to help grow and sustain his business.” Mr. Smith reported that he has driven straight trucks for 7 years, accumulating 136,500 miles. He holds an operator's license from South Carolina. His driving record for the last 3 years shows no crashes and no convictions for moving violations in a CMV.

Edward Swaggerty, Jr.

Mr. Swaggerty, 47, has had a retinal detachment in his right eye since 1993. The best corrected visual acuity in his right eye is 20/400, and in his left eye, 20/20. Following an examination in 2013, his optometrist noted, “In my opinion, he has sufficient vision to perform driving tasks required to operate a commercial vehicle.” Mr. Swaggerty reported that he has driven straight trucks for 29 years, accumulating 1.5 million miles, and tractor-trailer combinations for 20 years, accumulating 1.1 million miles. He holds a Class A CDL from Ohio. His driving record for the last 3 years shows no crashes and no convictions for moving violations in a CMV.

James L. Tinsley, Jr.

Mr. Tinsley, 54, has had traumatic glaucoma in his right eye since childhood. The best corrected visual acuity in his right eye is counting fingers, and in his left eye, 20/20. Following an examination in 2012, his ophthalmologist noted, “In my medical opinion, he does have sufficient vision to perform the driving tasks required to operate a commercial vehicle.” Mr. Tinsley reported that he has driven straight trucks for 20 years, accumulating 800,000 miles. He holds a Class A CDL from Virginia. His driving record for the last 3 years shows no crashes and no convictions for moving violations in a CMV.

Nicholas Turpin

Mr. Turpin, 56, has had amblyopia in his left eye since birth. The best corrected visual acuity in his right eye is 20/20, and in his left eye, 20/60. Following an examination in 2013, his optometrist noted, “In my opinion, Mr. Turpin has sufficient vision to perform the driving tasks required to operate a commercial vehicle with both eyes.” Mr. Turpin reported that he has driven tractor-trailer combinations for 24 years, accumulating 1 million miles. He holds a Class A CDL from Texas. His driving record for the last 3 years shows no crashes and no convictions for moving violations in a CMV.

Thomas Ward

Mr. Ward, 66, has had a central retinal vein occlusion in his right eye since 2000. The best corrected visual acuity in his right eye is 20/200, and in his left eye, 20/30. Following an examination in 2012, his ophthalmologist noted, “He is otherwise qualified to operate a commercial vehicle under 49 CFR 391.41(b)(1-13), and in my medical opinion [sic] given the stability and duration of his unilateral vision loss, he should be able to drive safely.” Mr. Ward reported that he has driven tractor-trailer combinations for 45 years, accumulating 3.6 million miles. He holds a Class A CDL from Ohio. His driving record for the last 3 years shows one crash for which he was not cited, and three convictions for moving violations in a CMV; he exceeded the speed limit by 6-10 mph, operated an unsafe vehicle, and exceeded the speed limit by 13 mph.

Marcus R. Watkins

Mr. Watkins, 50, has had a retinal detachment in his left eye since 1998. The best corrected visual acuity in his right eye is 20/20, and in his left eye, no light perception. Following an examination in 2012, his ophthalmologist noted, “He has sufficient vision to perform driving tasks required to operate a commercial vehicle.” Mr. Watkins reported that he has driven straight trucks for 6 years, accumulating 156,000 miles. He holds an operator's license from Texas. His driving record for the last 3 years shows no crashes and no convictions for moving violations in a CMV.

Request for Comments

In accordance with 49 U.S.C. 31136(e) and 31315, FMCSA requests public comment from all interested persons on the exemption petitions described in this notice. The Agency will consider all comments received before the close of business May 28, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: April 12, 2013.
Larry W. Minor,
Associate Administration for Policy.

[FR Doc. 2013-09912 Filed 4-25-13; 8:45 am]

BILLING CODE 4910-EX-P